DEPARTMENT OF HEALTH AND HUMAN SERVICES

Centers for Disease Control and Prevention

[60Day-10-0650]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Prevention Research Centers Program National Evaluation Reporting System—Revision—National Center for Chronic Disease Prevention and Health Promotion (NCCDPHP), Centers for Disease Control and Prevention (CDC).

Background and Brief Description

The Prevention Research Centers (PRC) Program was established by Congress through the Health Promotion and Disease Amendments of 1984. CDC manages the PRC program and currently provides funding to PRC grantees that are housed within schools of public health, medicine or osteopathy. Awards are made for five years and may be renewed through a competitive application process. PRCs conduct outcomes-oriented health promotion and disease prevention research on a broad range of topics using a multi-disciplinary and community-based approach. Research projects involve State and local health departments, health care providers, universities, community partners, and other organizations. PRCs collaborate with external partners to assess community health priorities; identify research priorities; set research agendas; conduct research projects and related activities such as training and technical assistance; and disseminate research results to public health practitioners, researchers, and the general public. Each PRC receives an approximately equal amount of funding from CDC to establish its core capacity and support a core research project as well as training and evaluation activities. Research foci reflect each PRC's area of expertise and the needs of the community. Health disparities and goals outlined in Healthy People 2010 are a particular emphasis for most PRC core research.

CDC is currently approved to collect progress and performance information from PRCs through the PRC Information System (IS), a Web-based application (OMB #0920-0650, exp. 8/31/2010). The IS was developed to organize programmatic information through work plans and progress reports and to assist in tracking progress toward and achievement of the PRC performance indicators. Respondents also report data related to the prevention research projects, products resulting from those projects, trainings related to those projects, and partnerships.

CDC will request OMB approval to continue collecting progress and performance information from PRCs for three years, with changes. The current IS will be phased out and replaced with two restructured information collections. The first information collection will be conducted utilizing a simplified, more user-friendly Web-based survey system. The second information collection will consist of telephone interview involving a key contact person for each PRC grantee. CDC proposes to amend the title of the OMB approval to reflect the change in data collection methodology.

In the next approval period, information collection will be restructured around a revised set of performance indicators that are based on a review of fiscal year 2007 data and input from the PRCs from 2008-2009. During that time, the CDC PRC Program office and grantees concluded that performance could be adequately monitored using a subset of the previously approved questions, implementing minor changes to some questions, instituting a brief telephone interview, and reducing the frequency of data collection.

CDC will continue to use the information reported by PRCs to identify training and technical assistance needs, respond to requests for information from Congress and other sources, monitor grantees' compliance with cooperative agreement requirements, evaluate progress made in achieving goals and objectives, and describe the impact and effectiveness of the PRC program.

PRCs will report the required information to CDC once per year. Although the number of respondent PRCs will increase to 35, the overall estimated burden is expected to decrease due to a reduction in the estimated burden per respondent. There are no costs to respondents other than their time.

Estimated Annualized Burden Hours
Type of respondent | Form name | Number of respondents | Number of responses per respondent | Average burden per response (in hours) | Total burden (in hours)
PRC Program | Survey | 35 | 1 | 6 | 210
| Telephone Interview | 35 | 1 | 1 | 35
Total |  |  |  |  | 245

Dated: January 20, 2010.
Maryam Daneshvar,
Acting Reports Clearance Officer, Centers for Disease Control and Prevention.

[FR Doc. 2010-1649 Filed 1-26-10; 8:45 am]

BILLING CODE 4163-18-P